DEPARTMENT OF ENERGY

[GDO Docket No. EA-348-D]

Application for Renewal of Authorization To Export Electric Energy; NextEra Energy Marketing, LLC

AGENCY: Grid Deployment Office, Department of Energy.

ACTION: Notice of application.

SUMMARY: NextEra Energy Marketing, LLC (Applicant or NEM) has applied for renewed authorization to transmit electric energy from the United States to Canada pursuant to the Federal Power Act.

DATES: Comments, protests, or motions to intervene must be submitted on or before May 23, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On February 11, 2009, DOE issued Order No. EA-348 to FPL Energy Power Marketing, Inc. to transmit electric energy from the United States to Canada as a power marketer for a period of five years. This authority was amended in March 2009 to effectuate a name change to NextEra Energy Power Marketing, LLC (Order No. EA-348-A). This authority was renewed in 2014 (Order No. EA-348-B) and 2019 (Order No. EA-348-C). On March 21, 2024, NEM filed an application with DOE (Application or App.) for renewal of its export authority for a five-year term. App. at 1.

According to the Application, NEM is a Delaware corporation that is a wholly owned direct subsidiary of NextEra Energy Resources, LLC. App. at 1-2. NEM states it does not own any transmission facilities. Id. at 2. NEM further states that its affiliate, NextBridge Infrastructure LP, owns and operates the East-West Tie transmission project in Ontario, Canada, including 280 miles of double-circuit 230 kV line. Id. at 2-3. The Applicant represents that the electricity it proposes to export will be purchased from others voluntarily and will, therefore, be surplus to the needs of the selling entities. Id. at 3. NEM also states it will comply with applicable reliability standards, export limits, and general conditions set by DOE. Id. at 4. NEM asserts its proposed exports will not impair or impede sufficient electric supplies in the United States or the regional coordination of electric utility planning or operations. Id. at 3.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning NEM's Application should be clearly marked with GDO Docket No. EA-348-D. Additional copies are to be provided directly to William Lavarco, NextEra Energy Resources, LLC, 801 Pennsylvania Ave. NW, Suite 220, Washington, DC 20004, william.lavarco@nee.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on April 16, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 17, 2024.
Treena V. Garrett,
Federal Register Liaison Officer, U.S. Department of Energy.

[FR Doc. 2024-08562 Filed 4-22-24; 8:45 am]

BILLING CODE 6450-01-P